DEPARTMENT OF COMMERCE

National Oceanic and Atmospheric Administration

[I.D. 100101A]

Marine Mammals; Pinniped Removal Authority

AGENCY: National Marine Fisheries Service (NMFS), National Oceanic and Atmospheric Administration (NOAA), Commerce.

ACTION: Proposed extension of a Letter of Authorization (LOA) and request for comments.

SUMMARY: NMFS solicits public comments on a request from the State of Washington and a proposal by NMFS to extend, for 5 years, an LOA for the lethal removal of individually identifiable California sea lions that are having a significant negative impact on the status and recovery of winter steelhead that migrate through the Ballard Locks in Seattle, WA. No changes to the existing terms and conditions of the authorization are proposed beyond extension of the expiration date to June 30, 2006. This action is authorized under the Marine Mammal Protection Act (MMPA).

DATES: Comments must be received on or before November 19, 2001.

ADDRESSES: Comments on this action should be submitted to Chief, Protected Resources Division, NMFS, 525 NE Oregon Street, Suite 500, Portland, OR 97232. Comments will not be accepted if submitted via email or the Internet. However, comments may be sent via fax to (503) 230-5435.

FOR FURTHER INFORMATION CONTACT: Garth Griffin, NMFS, Northwest Region, (503) 231-2005, or Tom Eagle, NMFS, Office of Protected Resources, (301) 713-2322 ext. 105.

SUPPLEMENTARY INFORMATION:

Electronic Access

Additional information, including the State’s LOA extension request, prior Environmental Assessments, and the current LOA, is available via the internet at http://www.nwr.noaa.gov.

Background

Pursuant to section 120 (b) of the MMPA, the State of Washington submitted an application to NMFS on June 30, 1994, requesting consideration of lethal removal of California sea lions at the Ballard Locks in Seattle, WA. In response to the application, NMFS formed the Ballard Locks Pinniped-Fisheries Interaction Task Force (Task Force). The Task Force met in late 1994, reviewed the available information and recommended approval of lethal removal with conditions. NMFS took the recommendations of the Task Force and public comments into consideration when it issued the initial 3-year LOA to the Washington Department of Fish and Wildlife (WDFW) on January 5, 1995.

As required by section 120, the Task Force reconvened in late 1995 to evaluate the effectiveness of the permitted lethal taking or alternative actions and recommended modifications to the terms and conditions of the LOA. The LOA was modified in 1996 and subsequently extended through June 30, 2001. No lethal removals were conducted during the period of the current LOA.

Information on Washington’s original application for lethal removal, the process for considering the application, which included formation of a Pinniped-Fishery Interaction Task Force, the Terms and Conditions of the LOA issued to WDFW and its subsequent extension was published in the Federal Register on August 2, 1994 (59 FR 39325), September 27, 1994 (59 FR 49234), January 19, 1995 (60 FR 3841), August 15, 1995 (60 FR 42146), March 26, 1996 (61 FR 13153), August 26, 1996 (61 FR 43737), June 19, 1997 (62 FR 33396), and September 29, 1997 (62 FR 50903). Background information on the sea-lion steelhead conflict at the Ballard Locks and findings on the environmental consequences of issuance of the LOA are provided in two Environmental Assessments prepared by NMFS in 1995 and 1996 (see Electronic Access).

At the request of WDFW, NMFS granted a temporary extension of the LOA expiration date from June 30, 2001, to December 15, 2001, to allow time for the State to prepare, and NMFS to process, a formal request to extend the existing LOA. Under the terms and conditions of the LOA, which authorized lethal removal only during the steelhead migration period (January through May) no sea lions may be lethally removed during the temporary extension.

In a letter dated September 12, 2001, the State of Washington requested an extension of the LOA for an additional 5 years (with a new expiration date of June 30, 2006). The State’s request cites severely depressed steelhead run returns (42 fish returned to spawn in 2001) and the need to quickly remove any sea lion that meets the criteria outlined in the LOA while the State continues management efforts to recover the run. In addition, the State noted that there are no lethal removals planned at this time and requested the authorization be extended so that, as a last resort, it can respond in a timely manner to uncontrollable sea lion predation and protect steelhead as the run recovers. The State requests no modifications to the terms and conditions of the LOA other than the extension to June 30, 2006. Copies of the request for extension are available (see Electronic Access).

The Task Force last met in 1996 to consider an earlier extension request by the State, and it submitted a report to NMFS that recommended that the LOA be extended, if so requested by the State, until such time as (a) the escapement goal of 1600 steelhead is reached or (b) it becomes clear that the process is unlikely to achieve the stated goal. At that time, the Task Force opinions on the extension ranged from “no extension” to “an extension period of 8 years (two steelhead life cycles)”, with the majority favoring 4 years. The Task Force indicated that extending the LOA would provide needed time to enable an evaluation of the effectiveness of lethal or non-lethal but permanent removal on subsequent steelhead returns when they have recovered to abundances that previously attracted predatory sea lions. At the completion of their deliberations, the Task Force adjourned until such time as substantive new information and analysis become available that may alter its recommendation. Copies of the Task Force report and recommendations are available (see Electronic Access). The State’s extension request indicates that,since the Task Force last met, conditions at the Locks have remained virtually unchanged (i.e., no sea lions have been lethally removed, no new individually identifiable sea lions have been added to the list of predatory sea lions to be removed, the steelhead run has not recovered, and efforts to recover the run are continuing.) The MMPA requires NMFS to consider the recommendations of the Task Force when determining whether to issue a lethal removal authorization. In order to obtain the Task Force’s views regarding this extension of the previously issued LOA in light of its decision to adjourn pending significant new data or analysis, NMFS is consulting with Task Force members by mail during the 30-day public comment period.

NMFS is seeking public comments on the proposal to extend the LOA for a period of 5 years. After considering public comments and advice from Task Force members, NMFS will publish notice of its final decision in the Federal Register.

The environmental consequences of extending the existing LOA as requested, without further modification of the terms and conditions, are expected to be the same as those previously assessed. Nonetheless, NMFS will conduct an environmental analysis on the proposed 5-year extension as required by the National Environmental Policy Act.

Dated: October 15, 2001.
Wanda L. Cain,
Acting Director, Office of Protected Resources, National Marine Fisheries Service.

[FR Doc. 01-26450 Filed 10-18-01; 8:45 am]

BILLING CODE 3510-22-S